DEPARTMENT OF TRANSPORTATION

Federal Railroad Administration

[Docket No. FRA 2001-9972; Formerly FRA Docket No. 87-2; Notice No. 16]

RIN 2130-AB20

Automatic Train Control (ATC) and Advanced Civil Speed Enforcement System (ACSES); Northeast Corridor (NEC) Railroads

AGENCY: Federal Railroad Administration (FRA), Department of Transportation (DOT).

ACTION: Amendment to Order of Particular Applicability requiring ACSES between New Haven, Connecticut, and Boston, Massachusetts—modification of temporary speed restriction requirements.

SUMMARY: In 1998, FRA issued an Order of Particular Applicability (Order) requiring all trains operating on the Northeast Corridor (NEC) between New Haven, Connecticut, and Boston, Massachusetts (NEC-North End) to be equipped to respond to the new Advanced Civil Speed Enforcement System (ACSES). In August of 2001, the National Railroad Passenger Corporation (Amtrak) requested that FRA temporarily suspend the Order's requirement to enforce temporary speed restrictions (TSRs) through the use of temporary transponders on the NEC-North End between Mill River Interlocking at mile post (MP) 73.6 and High Street Interlocking at MP 142.9. After reviewing data that Amtrak provided in August 2003 on its current transponder attrition rate, FRA has decided to grant the requested relief until April 1, 2005.

DATES: The amendments to the Order are effective March 17, 2004.

FOR FURTHER INFORMATION CONTACT: Paul Weber, Railroad Safety Specialist, Signal and Train Control Division, Office of Safety, Mail Stop 25, FRA, 1120 Vermont Avenue, NW., Washington, DC 20590 (202) 493-6258); or Patricia V. Sun, Office of Chief Counsel, Mail Stop 10, FRA, 1120 Vermont Avenue, NW., Washington, DC 20590 (202) 493-6038).

ADDRESSES: Docket: For access to the docket to read background documents or comments received, go to http://dms.dot.gov at any time or to Room PL-401 on the plaza level of the Nassif Building, 400 Seventh Street, SW., Washington, DC, between 9 a.m. and 5 p.m., Monday through Friday, except Federal Holidays.

SUPPLEMENTARY INFORMATION: The Order, as published on July 22, 1998, set performance standards for cab signal/automatic train control and ACSES systems, increased certain maximum authorized train speeds, and contained safety requirements supporting improved rail service on the NEC. 63 FR 39343. Among other requirements, the Order required all trains operating on track controlled by Amtrak on the NEC-North End to be controlled by locomotives equipped to respond to ACSES by October 1, 1999. FRA has subsequently amended the Order eight times to reset the implementation schedule and make technical changes. 64 FR 54410, October 6, 1999; 65 FR 62795, October 19, 2000; 66 FR 1718, January 9, 2001; 66 FR 34512, June 28, 200l; 66 FR 57771, November 16, 2001; 67 FR 6753, February 12, 2002; 67 FR 14769, March 22, 2002; and 67 FR 47884, July 22, 2002.

The ninth amendment to this Order is effective upon publication instead of 30 days after the publication date in order to realize the significant safety and transportation benefits afforded by the ACSES system at the earliest possible time. All affected parties have been notified.

FRA is not reopening the comment period since the amendment to this Order is necessary to avoid disruption of rail service. Under these circumstances, delaying the effective date of the amendment to allow for notice and comment would be impracticable, unnecessary, and contrary to the public interest.

Modification of Temporary Speed Restriction Requirements

As stated above, in an August 28, 2001 letter, Amtrak requested that FRA suspend the Order's requirement to enforce temporary speed restrictions with temporary transponders until Amtrak completed full implementation of data radio enforcement. In its October 2001 response, FRA asked Amtrak to provide more documentation to justify this request.

On August 13, 2003, Amtrak enclosed data supporting its assertion that unanticipated technical difficulties such as multiple changes to the original data base, problems with high speed trains sets, and an unusually high transponder attrition rate, had prevented it from adhering to the Order's implementation schedule. Amtrak stated that it had discovered the cause of the high transponder attrition rate and was correcting it by replacing current transponders with updated ones. As this replacement process would, however, result in further delays in ACSES implementation, Amtrak repeated its request that FRA grant it temporary relief from the Order's requirement to enforce TSRs through the use of temporary transponders on the NEC-North End between Mill River Interlocking at MP 73.6 and High Street Interlocking at MP 142.9. This would be a temporary measure to allow Amtrak to reap the significant safety benefits of positive 4 train separation and permanent civil speed restrictions as it continued to update transponders and implement the data radio infrastructure needed to support ACSES' positive train stop override feature as well as direct transfer of TSR data from the dispatching system to the onboard computer. Amtrak anticipated full implementation of ACSES by the end of the first quarter of 2005.

FRA agrees that partial implementation of ACSES would provide significant safety benefits as work continues towards full implementation of the system. FRA is therefore amending the Order as follows:

(1) Effective March 17, 2004, until no later than April 1, 2005, the requirement to achieve positive enforcement of TSRs through temporary transponders is suspended on the mainline track between Mill River Interlocking (MP 73.6) and High Street Interlocking (MP 142.9) to allow Amtrak to achieve direct loading of TSR data from its computer-aided dispatching center to the on-board computers of all trains operating through this territory.

(2) Amtrak must provide for TSR compliance through the use of Northeast Operating Rules Advisory Committee (NORAC) Form D or temporary speed restriction bulletin forms, advance speed signs, speed signs and resume signs. Compliance will continue to be monitored through efficiency tests.

(3) Amtrak must enforce the current speed limit of 110 miles per hour on the affected territory until ACSES is fully implemented and all features of the system, including positive enforcement of TSRs, are fully functional.

(4) Amtrak must provide a minimum of ten days notice to any carriers affected by ACSES expansion prior to its activation of the ACSES system to allow the affected carriers sufficient opportunity to operate test trains within the territory. The Regional Administrator for Region 1 shall be provided all associated safety and testing documentation to determine that appropriate preparations have been made to support expansions of ACSES.

Accordingly, for the reasons stated in the preamble, the Final Order of Particular Applicability published at 63 FR 39343, July 22, 1998 (Order) is amended as follows:

1. The authority for the Order continues to read as follows: 49 U.S.C. 20103, 20107, 20501-20505 (1994); and 49 CFR 1.49(f), (g), and (m).

2. Paragraph 13 is added as follows:

13. Amtrak Temporary Operating Protocols

Effective upon March 17, 2004, until no later than April 1, 2005:

a. The requirement that Amtrak achieve positive enforcement of temporary speed restrictions (TSRs) through temporary transponders is suspended on the mainline track between Mill River Interlocking (MP 73.6) and High Street Interlocking (MP 142.9) on the NEC-North End to allow Amtrak to achieve direct loading of TSR data from its computer-aided dispatching center to the on-board computers of all trains operating through this territory.

b. Amtrak shall provide for TSR compliance and roadway worker protection through the use of Northeast Operating Rules Advisory Committee (NORAC) Form D or temporary speed restriction bulletin forms, advance speed signs, speed signs and resume signs. Compliance will continue to be monitored through efficiency tests.

c. Amtrak shall enforce the current speed limit of 110 miles per hour on the affected territory until ACSES is fully implemented and all features of the system, including positive enforcement of TSRs, are fully functional.

d. Amtrak must provide a minimum of ten days notice to any carriers affected by ACSES expansion prior to its activation of the ACSES system to allow the affected carriers sufficient opportunity to operate test trains within the territory. The Regional Administrator for Region 1 shall be provided all associated safety and testing documentation to determine that appropriate preparations have been made to support expansions of ACSES.

Issued in Washington, DC, on March 11, 2004.
Allan Rutter,
Administrator.

[FR Doc. 04-6035 Filed 3-16-04; 8:45 am]

BILLING CODE 4910-06-P